FEDERAL HOUSING FINANCE BOARD

[No. 2000-N-8]

Proposed Collection; Comment Request

AGENCY: Federal Housing Finance Board.

ACTION: Notice.

SUMMARY: In accordance with the requirements of the Paperwork Reduction Act of 1995, the Federal Housing Finance Board (Finance Board) hereby gives notice that it is seeking public comments concerning a three-year extension by the Office of Management and Budget (OMB) of the information collection entitled “Members of the Banks.”

DATES: Interested persons may submit comments on or before February 20, 2001.

ADDRESSES: Address comments and requests for copies of the information collection to Elaine L. Baker, Secretary to the Board, by telephone at 202/408-2837, by electronic mail at bakere@fhfb.gov, or by regular mail at the Federal Housing Finance Board, 1777 F Street, NW., Washington, DC 20006.

FOR FURTHER INFORMATION CONTACT: Jonathan F. Curtis, Senior Financial Analyst, Market Research and System Analysis Division, Office of Policy, Research and Analysis, by telephone at 202/408-2866, by electronic mail at curtisj@fhfb.gov, or by regular mail at the Federal Housing Finance Board, 1777 F Street, NW., Washington, DC 20006. A telecommunications device for deaf persons (TDD) is available at 202/408-2579.

SUPPLEMENTARY INFORMATION:

A. Need For and Use of the Information Collection

Section 4 of the Federal Home Loan Bank Act (Bank Act), 12 U.S.C. 1424, establishes the eligibility requirements an institution must meet in order to become a member of a Federal Home Loan Bank (Bank). Part 925 of the Finance Board's regulations implements section 4 of the Bank Act. See 12 CFR part 925. The membership rule provides uniform requirements an applicant for Bank membership must meet and review criteria a Bank must apply to determine whether the applicant satisfies the statutory and regulatory membership eligibility requirements.

More specifically, the membership rule implements the statutory eligibility requirements and provides guidance to an applicant on how it may satisfy such requirements. The rule authorizes a Bank to approve or deny each membership application subject to the statutory and regulatory requirements and permits an applicant to appeal to the Finance Board a Bank's decision to deny certification as a Bank member. The rule also imposes a continuing obligation on a current Bank member to provide information necessary to determine if it remains in compliance with applicable statutory and regulatory eligibility requirements.

The information collection, which is contained in § 925.2 through § 925.31 of the membership rule, 12 CFR 925.2—925.31, is necessary to enable a Bank to determine whether a respondent satisfies the statutory and regulatory requirements to be certified initially and maintain its status as a member eligible to obtain Bank advances. The Finance Board requires and uses the information collection to determine whether to uphold or overrule a Bank's decision to deny member certification to an applicant.

The OMB number for the information collection is 3069-004. The OMB clearance for the information collection expires on April 30, 2001.

The likely respondents are institutions that want to be certified as or are members of a Bank.

B. Burden Estimate

The Finance Board estimates the total annual average number of applicants at 800, with one response per applicant. The estimate for the average hours per application is 21.5 hours. The Finance Board estimates the total annual average number of maintenance respondents, i.e., current Bank members, at 7,800, with one response per member. The estimate for the average hours per maintenance response is 0.6 hours. The estimate for the total annual hour burden is 21,880 hours (7,800 members x 1 response per member x approximately 0.6 hours plus 800 applicants x 1 response per applicant x approximately 21.5 hours).

C. Comment Request

The Finance Board requests written comments on the following: (1) Whether the collection of information is necessary for the proper performance of Finance Board functions, including whether the information has practical utility; (2) the accuracy of the Finance Board's estimates of the burdens of the collection of information; (3) ways to enhance the quality, utility and clarity of the information collected; and (4) ways to minimize the burden of the collection of information on respondents, including through the use of automated collection techniques or other forms of information technology.

By the Federal Housing Finance Board.
Dated: December 15, 2000.
James L. Bothwell,
Managing Director.

[FR Doc. 00-32657 Filed 12-21-00; 8:45 am]

BILLING CODE 6725-01-P